DEPARTMENT OF LABOR

Bureau of Labor Statistics

Technical Advisory Committee; Notice of Meeting and Agenda

The Bureau of Labor Statistics Technical Advisory Committee will meet on Thursday, May 27, 2021. In light of the travel restrictions and social distancing requirements resulting from the COVID-19 outbreak, this meeting will be held virtually from 12:00 p.m. to 4:00 p.m. EST.

The Committee presents advice and makes recommendations to the Bureau of Labor Statistics (BLS) on technical aspects of data collection and the formulation of economic measures and makes recommendations on areas of research. The BLS presents issues and then draws on the expertise of Committee members representing specialized fields within the academic disciplines of economics, statistics and data science, and survey design.

The schedule and agenda for the meeting are as follows:

12:00 p.m. Commissioner's Welcome and Review of Agency Developments

12:30 p.m. Next Steps in Measuring the Impact of Automation, AI, and Digitization on the Employment Landscape

2:15 p.m. Combining Probability and Non-Probability Sampling Methods: Applications to OCWC and OEUS Survey Programs

3:45 p.m. Concluding Remarks

4:00 p.m. Approximate Conclusion

The meeting is open to the public. Any questions concerning the meeting should be directed to Sabrina Pabilonia, Bureau of Labor Statistics Technical Advisory Committee, at BLSTAC@bls.gov. Individuals planning to attend the meeting should register at https://blstac.eventbrite.com. Individuals who require special accommodations should contact Ms. Pabilonia at least two days prior to the meeting date.

Signed at Washington, DC, this 19th day April of 2021.
Eric Molina,
Acting Chief, Division of Management Systems.

[FR Doc. 2021-08468 Filed 4-22-21; 8:45 am]

BILLING CODE 4510-24-P